DEPARTMENT OF TRANSPORTATION

Federal Aviation Administration

14 CFR Part 39

[Docket No. FAA-2020-0197; Product Identifier 2019-NM-200-AD; Amendment 39-21278; AD 2020-21-05]

RIN 2120-AA64

Airworthiness Directives; Airbus SAS Airplanes

AGENCY: Federal Aviation Administration (FAA), Department of Transportation (DOT).

ACTION: Final rule.

SUMMARY: The FAA is superseding Airworthiness Directive (AD) 2017-25-16, which applied to all Airbus SAS Model A330-200 Freighter, A330-200, A330-300, A340-200, A340-300, A340-500, and A340-600 series airplanes. AD 2017-25-16 required repetitive inspections of certain fuel pumps for cavitation erosion, corrective action if necessary, and revision of the minimum equipment list (MEL). This AD continues to require those actions, and also requires expanding the inspection area, adding certain maintenance actions, and expanding the applicability, as specified in a European Union Aviation Safety Agency (EASA) AD, which is incorporated by reference. This AD was prompted by reports of a fuel pump showing cavitation erosion that exposed the fuel pump power supply wires, and by new findings that suggest the need to expand the inspection area and the applicability. The FAA is issuing this AD to address the unsafe condition on these products.

DATES: This AD is effective November 18, 2020.

The Director of the Federal Register approved the incorporation by reference of a certain publication listed in this AD as of November 18, 2020.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0197.

Examining the AD Docket

You may examine the AD docket on the internet at https://www.regulations.gov by searching for and locating Docket No. FAA-2020-0197; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, International Validation Branch, FAA, 2200 South 216th St., Des Moines, WA 98198; telephone and fax 206-231-3229; email vladimir.ulyanov@faa.gov.

SUPPLEMENTARY INFORMATION:

Discussion

The EASA, which is the Technical Agent for the Member States of the European Union, has issued EASA AD 2019-0291R1, dated March 4, 2020 (“EASA AD 2019-0291R1”) (also referred to as the Mandatory Continuing Airworthiness Information, or “the MCAI”), to correct an unsafe condition for all Airbus SAS Model A330-200 Freighter, A330-200, A330-300, A330-900, A340-200, and A340-300 series airplanes; and Model A340-541, -542, -642, and -643 airplanes. EASA AD 2019-0291R1 supersedes EASA AD 2017-0224, dated November 10, 2017 (which corresponds to FAA AD 2017-25-16, Amendment 39-19130 (82 FR 58718, December 14, 2017) (“AD 2017-25-16”)). Model A340-542 and -643 airplanes are not certified by the FAA and are not included on the U.S. type certificate data sheet; this AD therefore does not include those airplanes in the applicability.

The FAA issued a notice of proposed rulemaking (NPRM) to amend 14 CFR part 39 to supersede AD 2017-25-16. AD 2017-25-16 applied to all Airbus Model A330-200, A330-200 Freighter, and A330-300 series airplanes; and Airbus Model A340-200, A340-300, A340-500, and A340-600 series airplanes. The NPRM published in the Federal Register on March 9, 2020 (85 FR 13578). The NPRM was prompted by reports of a fuel pump showing cavitation erosion that exposed the fuel pump power supply wires, and by new findings that suggest the need to expand the inspection area and the applicability. The NPRM proposed to continue to require repetitive inspections of certain fuel pumps for cavitation erosion, corrective action if necessary, and revision of the MEL, as specified in an EASA AD. The NPRM also proposed to require expanding the inspection area, adding certain maintenance actions, and expanding the applicability, as specified in an EASA AD.

The FAA is issuing this AD to address fuel pump erosion caused by cavitation. If this condition is not addressed, a pump running dry could result in a fuel tank explosion and consequent loss of the airplane. See the MCAI for additional background information.

Comments

The FAA gave the public the opportunity to participate in developing this final rule. The following presents the comments received on the NPRM and the FAA's response to each comment.

Support for the NPRM

The Air Line Pilots Association, International (ALPA) expressed support for the proposed AD.

Request To Require Revised EASA AD

Delta Air Lines (DAL) requested that the FAA revise paragraph (g) of the proposed AD to require compliance with EASA AD 2019-0291R1, dated March 4, 2020, rather than EASA AD 2019-0291, dated November 29, 2019. DAL observed that while the NPRM was being prepared, EASA published the revised AD.

The FAA agrees with the commenter's request. Since the NPRM was issued, EASA issued EASA AD 2019-0291R1, which corrects and clarifies some aspects, particularly repair (not overhaul) of affected parts using the instructions of Eaton Aerospace CMM 28-21-55 (housing replaced). The FAA has determined that no additional work is required for airplanes that have accomplished the actions specified in EASA AD 2019-0291. Therefore, the FAA has revised this final rule to specify EASA AD 2019-0291R1.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2019-0291R1 describes procedures for repetitive inspections of all affected parts, replacement if necessary, updating the applicable Master Minimum Equipment List (MMEL), and certain maintenance actions related to defueling and ground fuel transfer operations This material is reasonably available because the interested parties have access to it through their normal course of business or by the means identified in the ADDRESSES section.

Interim Action

The FAA considers this AD interim action. The manufacturer is currently developing a modification that will address the unsafe condition identified in this AD. Once this modification is developed, approved, and available, the FAA might consider additional rulemaking.

Costs of Compliance

The FAA estimates that this AD affects 107 airplanes of U.S. registry. The FAA estimates the following costs to comply with this AD:

Estimated Costs for Required Actions
Action | Labor cost | Parts cost | Cost per product | Cost on U.S. operators
Retained actions from AD 2017-25-16 | Up to 4 work-hours × $85 per hour = Up to $340 | $0 | Up to $340 | Up to $36,380.
New actions | Up to 68 work-hours × $85 per hour = Up to $5,780 | 0 | Up to $5,780 | Up to $618,460.
MEL revision | 1 workhour × $85 = $85 | 0 | $85 | $9,095.

The FAA estimates the following costs to do any necessary on-condition action that would be required based on the results of any required actions. The FAA has no way of determining the number of aircraft that might need this on-condition action:

Estimated Costs of On-Condition Actions
Labor cost | Parts cost | Cost per product
Up to 126 work-hours × $85 per hour = Up to $10,710 | Up to $173,680 | Up to $184,390.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-25-16, Amendment 39-19130 (82 FR 58718, December 14, 2017); and

b. Adding the following new AD:

2020-21-05 Airbus SAS: Amendment 39-21278; Docket No. FAA-2020-0197; Product Identifier 2019-NM-200-AD.

(a) Effective Date

This AD is effective November 18, 2020.

(b) Affected ADs

This AD replaces AD 2017-25-16, Amendment 39-19130 (82 FR 58718, December 14, 2017) (“AD 2017-25-16”).

(c) Applicability

This AD applies to all Airbus SAS airplanes, certificated in any category, as identified in paragraphs (c)(1) through (8) of this AD.

(1) Model A330-223F and -243F airplanes.

(2) Model A330-201, -202, -203, -223, and -243 airplanes.

(3) Model A330-941 airplanes.

(4) Model A330-301, -302, -303, -321, -322, -323, -341, -342, and -343 airplanes.

(5) Model A340-211, -212, and -213 airplanes.

(6) Model A340-311, -312, and -313 airplanes.

(7) Model A340-541 airplanes.

(8) Model A340-642 airplanes.

(d) Subject

Air Transport Association (ATA) of America Code 28, Fuel.

(e) Reason

This AD was prompted by reports of a fuel pump showing cavitation erosion that exposed the fuel pump power supply wires, and by new findings that suggest the need to expand the inspection area and the applicability. The FAA is issuing this AD to address fuel pump erosion caused by cavitation. If this condition is not addressed, a pump running dry could result in a fuel tank explosion and consequent loss of the airplane.

(f) Compliance

Comply with this AD within the compliance times specified, unless already done.

(g) Requirements

Except as specified in paragraph (h) of this AD: Comply with all required actions and compliance times specified in, and in accordance with, European Union Aviation Safety Agency (EASA) AD 2019-0291R1, dated March 4, 2020 (“EASA AD 2019-0291R1”).

(h) Exceptions to EASA AD 2019-0291R1

(1) Where EASA AD 2019-0291R1 refers to “the effective date of the original issue of this AD,” this AD requires using the effective date of this AD.

(2) The “Remarks” section of EASA AD 2019-0291R1 does not apply to this AD.

(3) Where EASA AD 2019-0291R1 refers to the master minimum equipment list (MMEL), this AD refers to the operator's minimum equipment list (MEL).

(4) Where paragraph (1) of EASA AD 2019-0291R1 specifies a compliance time of “Before an affected part exceeds 10,000 flight hours (FH) since first installation on an aeroplane, or since Eaton Aerospace CMM 28-21-55 repair (housing replaced),” for this AD the compliance time is “Before an affected pump exceeds 10,000 flight hours since first installation on an airplane, or the applicable time specified in paragraph (h)(4)(i) or (ii) of this AD, whichever occurs later.”

(i) For a center tank, rear center tank, or aft transfer fuel pump: Within 30 days after December 29, 2017 (the effective date of AD 2017-25-16).

(ii) For a stand-by fuel pump: Within 40 days after December 29, 2017 (the effective date of AD 2017-25-16).

(5) Where EASA AD 2019-0291R1 refers to the “effective date of EASA AD 2017-0224,” this AD requires using “December 29, 2017 (the effective date of AD 2017-25-16).”

(6) Where EASA AD 2019-0291R1 specifies a compliance time of “after 13 December 2019 [the effective date of the original issue of this AD],” this AD requires using the effective date of this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2017-25-16 are approved as AMOCs for the corresponding provisions of EASA AD 2019-0291R1 that is required by paragraph (g) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2019-0291R1 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Vladimir Ulyanov, Aerospace Engineer, Large Aircraft Section, International Validation Branch, FAA, 2200 South 216th St., Des Moines, WA 98198; telephone and fax 206-231-3229; email vladimir.ulyanov@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 18, 2020.

(i) European Union Aviation Safety Agency (EASA) AD 2019-0291R1, dated March 4, 2020.

(ii) [Reserved]

(4) For EASA AD 2019-0291R1, contact the EASA, Konrad-Adenauer-Ufer 3, 50668 Cologne, Germany; telephone +49 221 8999 000; email ADs@easa.europa.eu; Internet www.easa.europa.eu. You may find this EASA AD on the EASA website at https://ad.easa.europa.eu.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0197.

(6) You may view this material that is incorporated by reference at the National Archives and Records Administration (NARA). For information on the availability of this material at NARA, email fedreg.legal@nara.gov, or go to: https://www.archives.gov/federal-register/cfr/ibr-locations.html.

Issued on October 1, 2020.
Gaetano A. Sciortino,
Deputy Director for Strategic Initiatives, Compliance & Airworthiness Division, Aircraft Certification Service.

[FR Doc. 2020-22625 Filed 10-13-20; 8:45 am]

BILLING CODE 4910-13-P